DEPARTMENT OF HEALTH AND HUMAN SERVICES

Food and Drug Administration

[Docket No. FDA-2011-N-0400]

DEPARTMENT OF AGRICULTURE

Food Safety and Inspection Service

[Docket No. FSIS-2011-0014]

Approaches to Reducing Sodium Consumption; Establishment of Dockets; Request for Comments, Data, and Information; Extension of Comment Period

AGENCY: Food and Drug Administration, HHS; Food Safety and Inspection Service, USDA.

ACTION: Notice; extension of comment period for the submission of comments, data, and information.

SUMMARY: The Food and Drug Administration (FDA) and the Food Safety and Inspection Service (FSIS) are extending the comment period to January 27, 2012, for the notice entitled “Approaches to Reducing Sodium Consumption; Establishment of Dockets; Request for Comments, Data, and Information,” that appeared in the Federal Register of September 15, 2011 (76 FR 57050). In that notice, FDA and FSIS requested comments on research, data, and other information that will better inform both Agencies about current and emerging practices by the private sector regarding sodium reduction in foods; current consumer understanding of the role of sodium in hypertension and other chronic illnesses; sodium consumption practices; motivation and barriers in reducing sodium in consumers' food intakes; and issues associated with the development of targets for sodium reduction in foods to promote reduction in excess sodium intake. FDA and FSIS are extending the comment period in response to a request from an industry association for additional time to allow interested persons to submit comments.

DATES: Submit either electronic or written comments and data and information by January 27, 2012.

ADDRESSES: FDA: Submit electronic comments and data and information to http://www.regulations.gov. Submit written comments and data and information to the Division of Dockets Management (HFA-305), Food and Drug Administration, 5630 Fishers Lane, rm. 1061, Rockville, MD 20852. All submissions must include the Agency name and the docket number FDA-2011-N-0400.

FSIS: Submit electronic comments and data and information to http://www.regulations.gov. Submit written comments and data and information to the Docket Clerk, U.S. Department of Agriculture, Food Safety and Inspection Service, FSIS Docket Room, 1400 Independence Ave., SW., Patriots Plaza III, Mailstop 3782, rm. 163A, Washington, DC 20250-3700. All submissions must include the Agency name and the docket number FSIS-2011-0014.

FOR FURTHER INFORMATION CONTACT:

FDA: Richard E. Bonnette, Center for Food Safety and Applied Nutrition (HFS-255), Food and Drug Administration, 5100 Paint Branch Pkwy., College Park, MD 20740-3835, (240) 402-1235.

FSIS: Rosalyn Murphy-Jenkins, Director, Labeling and Program Delivery Division, Office of Policy and Program Development, Food Safety and Inspection Service, U.S. Department of Agriculture, USDA, FSIS, OPPD, LPDD Stop Code 3784, Patriots Plaza III, 8-161A, 1400 Independence Ave., SW., Washington, DC 20250-3700.

SUPPLEMENTARY INFORMATION:

I. Background

In the Federal Register of September 15, 2011 (76 FR 57050), FDA and FSIS published a notice entitled “Approaches to Reducing Sodium Consumption; Establishment of Dockets; Request for Comments, Data, and Information.” In this notice, FDA and FSIS requested comments, research, data, and other information that will better inform both Agencies about current and emerging practices by the private sector regarding sodium reduction; current consumer understanding of the role of sodium in hypertension and other chronic illnesses; sodium consumption practices; motivation and barriers in reducing sodium in consumers' food intakes; and issues associated with the development of targets for sodium reduction in foods to promote reduction in excess sodium intake. The notice provided a 75-day comment period, thereby establishing November 29, 2011, as the deadline for the submission of comments, data, and information.

On November 4, 2011, FDA and FSIS received a request from an industry association for an extension of the comment period until January 27, 2011. The request conveyed the concern that the current 75-day comment period does not allow sufficient time to collect responsive information and data and prepare it for submission to the Agencies.

FDA and FSIS have considered the request and are extending the comment period for the notice entitled “Approaches to Reducing Sodium Consumption; Establishment of Dockets; Request for Comments, Data, and Information” until January 27, 2012. FDA and FSIS believe that the extension provides adequate time for interested persons to submit comments.

II. Request for Comments

FDA: Interested persons may submit to FDA's Division of Dockets Management (see ADDRESSES) either electronic or written comments regarding this document. It is only necessary to send one set of comments. It is no longer necessary to send two copies of mailed comments. Identify comments with the docket number found in brackets in the heading of this document. Received comments may be seen in the Division of Dockets Management between 9 a.m. and 4 p.m., Monday through Friday.

FSIS: Interested persons may submit to FSIS's Docket Clerk (see ADDRESSES) either electronic or written comments regarding this document. Identify comments with the docket number found in brackets in the heading of this document. Received comments may be seen in the FSIS Docket Room between 8:30 a.m. and 4:30 p.m., Monday through Friday.

Because two docket numbers are associated with this document, please include with your comments the docket number that corresponds with the appropriate Agency. Comments submitted for inclusion in both dockets should be submitted separately to each identified docket number to ensure consideration by both Agencies.

Dated: November 22, 2011.
Leslie Kux,
Acting Assistant Commissioner for Policy, Food and Drug Administration.
Dated: November 23, 2011.
Alfred V. Almanza,
Administrator, Food Safety and Inspection Service.

[FR Doc. 2011-30865 Filed 11-28-11; 8:45 am]

BILLING CODE 4160-01-P